FEDERAL COMMUNICATIONS COMMISSION

47 CFR Part 90

[WT Docket No. 02-55; ET Docket No. 00-258; ET Docket No. 95-18, RM-9498; RM-10024; FCC 04-168]

Private Land Mobile Radio Services; 800 MHz Public Safety Interference Proceeding

AGENCY: Federal Communications Commission.

ACTION: Final rule; correcting amendments.

SUMMARY: The Federal Communications Commission published a document in the Federal Register on November 22, 2004 (69 FR 67823), revising Commission rules. That document inadvertently deleted 900 MHz frequencies available in § 90.613. This document corrects the final regulations by revising § 90.613 to add the deleted 900 MHz frequencies.

DATES: Effective September 28, 2005.

FOR FURTHER INFORMATION CONTACT: Brian Marenco, Associate Division Chief, Brian.Marenco@fcc.gov, Public Safety and Critical Infrastructure Division, Wireless Telecommunications Bureau, (202) 418-0838, TTY (202) 418-7233.

SUPPLEMENTARY INFORMATION: This is a summary of the Federal Communications Commission's (FCC) correction to the Federal Register document published on November 22, 2004, (69 FR 67823). Previously, the FCC released a Report and Order, which among other things reconfigured the 800 MHz band to alleviate interference to public safety communications. In the Report and Order the FCC revised the table of channel designations for 800 MHz frequencies in Section 90.613 of the rules to reflect its new 800 MHz band plan. However, the Federal Register document inadvertently deleted the portion of the table indicating the channel designations for 900 MHz frequencies in § 90.613. Out of an abundance of caution, in this document we are publishing the entire § 90.613 as it should appear in the CFR.

List of Subjects in 47 CFR Part 90

FCC equipment, Radio, Reporting and recordkeeping requirements.

Accordingly, 47 CFR Part 90 is corrected by making the following correcting amendments:

PART 90—PRIVATE LAND MOBILE RADIO SERVICES

1. The authority citation for part 90 continues to read as follows:

Authority: Section 4(i), 11, 303(g), 303(r), and 332(c)(7) of the Communications Act of 1934, as amended, 47 U.S.C. 154(i), 161, 303(g), 303(r), 332(c)(7).

2. Section 90.613, is revised to read as follows:

§ 90.613 Frequencies available.

The following table indicates the channel designations of frequencies available for assignment to eligible applicants under this subpart. Frequencies shall be assigned in pairs, with mobile and control station transmitting frequencies taken from the 806-824 MHz band with corresponding base station frequencies being 45 MHz higher and taken from the 851-869 MHz band, or with mobile and control station frequencies taken from the 896-901 MHz band with corresponding base station frequencies being 39 MHz higher and taken from the 935-940 MHz band. Only the base station transmitting frequency of each pair is listed in the following tables.

Table of 806-824/851-869 MHz Channel Designations
Channel No. | Base frequency (MHz)
1 | 851.0125
2 | .0375
3 | .0500
4 | .0625
5 | .0750
6 | .0875
7 | .1000
8 | .1125
9 | .1250
10 | .1375
11 | .1500
12 | .1625
13 | .1750
14 | .1875
15 | .2000
16 | .2125
17 | .2250
18 | .2375
19 | .2500
20 | .2625
21 | .2750
22 | .2875
23 | .3000
24 | .3125
25 | .3250
26 | .3375
27 | .3500
28 | .3625
29 | .3750
30 | .3875
31 | .4000
32 | .4125
33 | .4250
34 | .4375
35 | .4500
36 | .4625
37 | .4750
38 | .4875
39 | .5125
40 | .5375
41 | .5500
42 | .5625
43 | .5750
44 | .5875
45 | .6000
46 | .6125
47 | .6250
48 | .6375
49 | .6500
50 | .6625
51 | .6750
52 | .6875
53 | .7000
54 | .7125
55 | .7250
56 | .7375
57 | .7500
58 | .7625
59 | .7750
60 | .7875
61 | .8000
62 | .8125
63 | .8250
64 | .8375
65 | .8500
66 | .8625
67 | .8750
68 | .8875
69 | .9000
70 | .9125
71 | .9250
72 | .9375
73 | .9500
74 | .9625
75 | .9750
76 | .9875
77 | 852.0125
78 | .0375
79 | .0500
80 | .0625
81 | .0750
82 | .0875
83 | .1000
84 | .1125
85 | .1250
86 | .1375
87 | .1500
88 | .1625
89 | .1750
90 | .1875
91 | .2000
92 | .2125
93 | .2250
94 | .2375
95 | .2500
96 | .2625
97 | .2750
98 | .2875
99 | .3000
100 | .3125
101 | .3250
102 | .3375
103 | .3500
104 | .3625
105 | .3750
106 | .3875
107 | .4000
108 | .4125
109 | .4250
110 | .4375
111 | .4500
112 | .4625
113 | .4750
114 | .4875
115 | .5125
116 | .5375
117 | .5500
118 | .5625
119 | .5750
120 | .5875
121 | .6000
122 | .6125
123 | .6250
124 | .6375
125 | .6500
126 | .6625
127 | .6750
128 | .6875
129 | .7000
130 | .7125
131 | .7250
132 | .7375
133 | .7500
134 | .7625
135 | .7750
136 | .7875
137 | .8000
138 | .8125
139 | .8250
140 | .8375
141 | .8500
142 | .8625
143 | .8750
144 | .8875
145 | .9000
146 | .9125
147 | .9250
148 | .9375
149 | .9500
150 | .9625
151 | .9750
152 | .9875
153 | 853.0125
154 | .0375
155 | .0500
156 | .0625
157 | .0750
158 | .0875
159 | .1000
160 | .1125
161 | .1250
162 | .1375
163 | .1500
164 | .1625
165 | .1750
166 | .1875
167 | .2000
168 | .2125
169 | .2150
170 | .2375
171 | .2500
172 | .2625
173 | .2750
174 | .2875
175 | .3000
176 | .3125
177 | .3250
178 | .3375
179 | .3500
180 | .3625
181 | .3750
182 | .3875
183 | .4000
184 | .4125
185 | .4250
186 | .4375
187 | .4500
188 | .4625
189 | .4750
190 | .4875
191 | .5000
192 | .5125
193 | .5250
194 | .5375
195 | .5500
196 | .5625
197 | .5750
198 | .5875
199 | .6000
200 | .6125
201 | .6250
202 | .6375
203 | .6500
204 | .6625
205 | .6750
206 | .6875
207 | .7000
208 | .7125
209 | .7250
210 | .7375
211 | .7500
212 | .7625
213 | .7750
214 | .7875
215 | .8000
216 | .8125
217 | .8250
218 | .8375
219 | .8500
220 | .8625
221 | .8750
222 | .8875
223 | .9000
224 | .9125
225 | .9250
226 | .9375
227 | .9500
228 | .9625
229 | .9750
230 | .9875
231 | 854.0125
232 | .0375
233 | .0625
234 | .0875
235 | .1125
236 | .1375
237 | .1625
238 | .1875
239 | .2125
240 | .2375
241 | .2625
242 | .2875
243 | .3125
244 | .3375
245 | .3625
246 | .3875
247 | .4125
248 | .4375
249 | .4625
250 | .4875
251 | .5125
252 | .5375
253 | .5625
254 | .5875
255 | .6125
256 | .6375
257 | .6625
258 | .6875
259 | .7125
260 | .7375
261 | .7625
262 | .7875
263 | .8125
264 | .8375
265 | .8625
266 | .8875
267 | .9125
268 | .9375
269 | .9625
270 | .9875
271 | 855.0125
272 | .0375
273 | .0625
274 | .0875
275 | .1125
276 | .1375
277 | .1625
278 | .1875
279 | .2125
280 | .2375
281 | .2625
282 | .2875
283 | .3125
284 | .3375
285 | .3625
286 | .3875
287 | .4125
288 | .4375
289 | .4625
290 | .4875
291 | .5125
292 | .5375
293 | .5625
294 | .5875
295 | .6125
296 | .6375
297 | .6625
298 | .6875
299 | .7125
300 | .7375
301 | .7625
302 | .7875
303 | .8125
304 | .8375
305 | .8625
306 | .8875
307 | .9125
308 | .9375
309 | .9625
310 | .9875
311 | 856.0125
312 | .0375
313 | .0625
314 | .0875
315 | .1125
316 | .1375
317 | .1625
318 | .1875
319 | .2125
320 | .2375
321 | .2625
322 | .2875
323 | .3125
324 | .3375
325 | .3625
326 | .3875
327 | .4125
328 | .4375
329 | .4625
330 | .4875
331 | .5125
332 | .5375
333 | .5625
334 | .5875
335 | .6125
336 | .6375
337 | .6625
338 | .6875
339 | .7125
340 | .7375
341 | .7625
342 | .7875
343 | .8125
344 | .8375
345 | .8625
346 | .8875
347 | .9125
348 | .9375
349 | .9625
350 | .9875
351 | 857.0125
352 | .0375
353 | .0625
354 | .0875
355 | .1125
356 | .1375
357 | .1625
358 | .1875
359 | .2125
360 | .2375
361 | .2625
362 | .2875
363 | .3125
364 | .3375
365 | .3625
366 | .3875
367 | .4125
368 | .4375
369 | .4625
370 | .4875
371 | .5125
372 | .5375
373 | .5625
374 | .5875
375 | .6125
376 | .6375
377 | .6625
378 | .6875
379 | .7125
380 | .7375
381 | .7625
382 | .7875
383 | .8125
384 | .8375
385 | .8625
386 | .8875
387 | .9125
388 | .9375
389 | .9625
390 | .9875
391 | 858.0125
392 | .0375
393 | .0625
394 | .0875
395 | .1125
396 | .1375
397 | .1625
398 | .1875
399 | .2125
400 | .2375
401 | .2625
402 | .2875
403 | .3125
404 | .3375
405 | .3625
406 | .3875
407 | .4125
408 | .4375
409 | .4625
410 | .4875
411 | .5125
412 | .5375
413 | .5625
414 | .5875
415 | .6125
416 | .6375
417 | .6625
418 | .6875
419 | .7125
420 | .7375
421 | .7625
422 | .7875
423 | .8125
424 | .8375
425 | .8625
426 | .8875
427 | .9125
428 | .9375
429 | .9625
430 | .9875
431 | 859.0125
432 | .0375
433 | .0625
434 | .0875
435 | .1125
436 | .1375
437 | .1625
438 | .1875
439 | .2125
440 | .2375
441 | .2625
442 | .2875
443 | .3125
444 | .3375
445 | .3625
446 | .3875
447 | .4125
448 | .4375
449 | .4625
450 | .4875
451 | .5125
452 | .5375
453 | .5625
454 | .5875
455 | .6125
456 | .6375
457 | .6625
458 | .6875
459 | .7125
460 | .7375
461 | .7625
462 | .7875
463 | .8125
464 | .8375
465 | .8625
466 | .8875
467 | .9125
468 | .9375
469 | .9625
470 | .9875
471 | 860.0125
472 | .0375
473 | .0625
474 | .0875
475 | .1125
476 | .1375
477 | .1625
478 | .1875
479 | .2125
480 | .2375
481 | .2625
482 | .2875
483 | .3125
484 | .3375
485 | .3625
486 | .3875
487 | .4125
488 | .4375
489 | .4625
490 | .4875
491 | .5125
492 | .5375
493 | .5625
494 | .5875
495 | .6125
496 | .6375
497 | .6625
498 | .6875
499 | .7125
500 | .7375
501 | .7625
502 | .7875
503 | .8125
504 | .8375
505 | .8625
506 | .8875
507 | .9125
508 | .9375
509 | .9625
510 | .9875
511 | 861.0125
512 | .0375
513 | .0625
514 | .0875
515 | .1125
516 | .1375
517 | .1625
518 | .1875
519 | .2125
520 | .2375
521 | .2625
522 | .2875
523 | .3125
524 | .3375
525 | .3625
526 | .3875
527 | .4125
528 | .4375
529 | .4625
530 | .4875
531 | .5125
532 | .5375
533 | .5625
534 | .5875
535 | .6125
536 | .6375
537 | .6625
538 | .6875
539 | .7125
540 | .7375
541 | .7625
542 | .7875
543 | .8125
544 | .8375
545 | .8625
546 | .8875
547 | .9125
548 | .9375
549 | .9625
550 | .9875
551 | 862.0125
552 | .0375
553 | .0625
554 | .0875
555 | .1125
556 | .1375
557 | .1625
558 | .1875
559 | .2125
560 | .2375
561 | .2625
562 | .2875
563 | .3125
564 | .3375
565 | .3625
566 | .3875
567 | .4125
568 | .4375
569 | .4625
570 | .4875
571 | .5125
572 | .5375
573 | .5625
574 | .5875
575 | .6125
576 | .6375
577 | .6625
578 | .6875
579 | .7125
580 | .7375
581 | .7625
582 | .7875
583 | .8125
584 | .8375
585 | .8625
586 | .8875
587 | .9125
588 | .9375
589 | .9625
590 | .9875
591 | 863.0125
592 | .0375
593 | .0625
594 | .0875
595 | .1125
596 | .1375
597 | .1625
598 | .1875
599 | .2125
600 | .2375
601 | .2625
602 | .2875
603 | .3125
604 | .3375
605 | .3625
606 | .3875
607 | .4125
608 | .4375
609 | .4625
610 | .4875
611 | .5125
612 | .5375
613 | .5625
614 | .5875
615 | .6125
616 | .6375
617 | .6625
618 | .6875
619 | .7125
620 | .7375
621 | .7625
622 | .7875
623 | .8125
624 | .8375
625 | .8625
626 | .8875
627 | .9125
628 | .9375
629 | .9625
630 | .9875
631 | 864.0125
632 | .0375
633 | .0625
634 | .0875
635 | .1125
636 | .1375
637 | .1625
638 | .1875
639 | .2125
640 | .2375
641 | .2625
642 | .2875
643 | .3125
644 | .3375
645 | .3625
646 | .3875
647 | .4125
648 | .4375
649 | .4625
650 | .4875
651 | .5125
652 | .5375
653 | .5625
654 | .5875
655 | .6125
656 | .6375
657 | .6625
658 | .6875
659 | .7125
660 | .7375
661 | .7625
662 | .7875
663 | .8125
664 | .8375
665 | .8625
666 | .8875
667 | .9125
668 | .9375
669 | .9625
670 | .9875
671 | 865.0125
672 | .0375
673 | .0625
674 | .0875
675 | .1125
676 | .1375
677 | .1625
678 | .1875
679 | .2125
680 | .2375
681 | .2625
682 | .2875
683 | .3125
684 | .3375
685 | .3625
686 | .3875
687 | .4125
688 | .4375
689 | .4625
690 | .4875
691 | .5125
692 | .5375
693 | .5625
694 | .5875
695 | .6125
696 | .6375
697 | .6625
698 | .6875
699 | .7125
700 | .7375
701 | .7625
702 | .7875
703 | .8125
704 | .8375
705 | .8625
706 | .8875
707 | .9125
708 | .9375
709 | .9625
710 | .9875
711 | 866.0125
712 | .0375
713 | .0625
714 | .0875
715 | .1125
716 | .1375
717 | .1625
718 | .1875
719 | .2125
720 | .2375
721 | .2625
722 | .2875
723 | .3125
724 | .3375
725 | .3625
726 | .3875
727 | .4125
728 | .4375
729 | .4625
730 | .4875
731 | .5125
732 | .5375
733 | .5625
734 | .5875
735 | .6125
736 | .6375
737 | .6625
738 | .6875
739 | .7125
740 | .7375
741 | .7625
742 | .7875
743 | .8125
744 | .8375
745 | .8625
746 | .8875
747 | .9125
748 | .9375
749 | .9625
750 | .9875
751 | 867.0125
752 | .0375
753 | .0625
754 | .0875
755 | .1125
756 | .1375
757 | .1625
758 | .1875
759 | .2125
760 | .2375
761 | .2625
762 | .2875
763 | .3125
764 | .3375
765 | .3625
766 | .3875
767 | .4125
768 | .4375
769 | .4625
770 | .4875
771 | .5125
772 | .5375
773 | .5625
774 | .5875
775 | .6125
776 | .6375
777 | .6625
778 | .6875
779 | .7125
780 | .7375
781 | .7625
782 | .7875
783 | .8125
784 | .8375
785 | .8625
786 | .8875
787 | .9125
788 | .9375
789 | .9625
790 | .9875
791 | 868.0125
792 | .0375
793 | .0625
794 | .0875
795 | .1125
796 | .1375
797 | .1625
798 | .1875
799 | .2125
800 | .2375
801 | .2625
802 | .2875
803 | .3125
804 | .3375
805 | .3625
806 | .3875
807 | .4125
808 | .4375
809 | .4625
810 | .4875
811 | .5125
812 | .5375
813 | .5625
814 | .5875
815 | .6125
816 | .6375
817 | .6625
818 | .6875
819 | .7125
820 | .7375
821 | .7625
822 | .7875
823 | .8125
824 | .8375
825 | .8625
826 | .8875
827 | .9125
828 | .9375
829 | .9625
830 | .9875

Table of 896-901/935-940 MHz Channel Designations
Channel No. | Base Frequency (MHz)
1 | 935.0125
2 | .0250
3 | .0375
4 | .0500
5 | .0625
6 | .0750
7 | .0875
8 | .1000
9 | .1125
10 | .1250
11 | .1375
12 | .1500
13 | .1625
14 | .1750
15 | .1875
16 | .2000
17 | .2125
18 | .2250
19 | .2375
20 | .2500
21 | .2625
22 | .2750
23 | .2875
24 | .3000
25 | .3125
26 | .3250
27 | .3375
28 | .3500
29 | .3625
30 | .3750
31 | .3875
32 | .4000
33 | .4125
34 | .4250
35 | .4375
36 | .4500
37 | .4625
38 | .4750
39 | .4875
40 | .5000
41 | .5125
42 | .5250
43 | .5375
44 | .5500
45 | .5625
46 | .5750
47 | .5875
48 | .6000
49 | .6125
50 | .6250
51 | .6375
52 | .6500
53 | .6625
54 | .6750
55 | .6875
56 | .7000
57 | .7125
58 | .7250
59 | .7375
60 | .7500
61 | .7626
62 | .7750
63 | .7875
64 | .8000
65 | .8125
66 | .8250
67 | .8375
68 | .8500
69 | .8625
70 | .8750
71 | .8875
72 | .9000
73 | .9125
74 | .9250
75 | .9375
76 | .9500
77 | .9625
78 | .9750
79 | .9875
80 | 936.0000
81 | .0125
82 | .0250
83 | .0375
84 | .0500
85 | .0625
86 | .0750
87 | .0875
88 | .1000
89 | .1125
90 | .1250
91 | .1375
92 | .1500
93 | .1625
94 | .1750
95 | .1875
96 | .2000
97 | .2125
98 | .2250
99 | .2375
100 | .2500
101 | .2625
102 | .2750
103 | .2875
104 | .3000
105 | .3125
106 | .3250
107 | .3375
108 | .3500
109 | .3625
110 | .3750
111 | .3875
112 | .4000
113 | .4125
114 | .4250
115 | .4375
116 | .4500
117 | .4625
118 | .4750
119 | .4875
120 | .5000
121 | .5125
122 | .5250
123 | .5375
124 | .5500
125 | .5625
126 | .5750
127 | .5875
128 | .6000
129 | .6125
130 | .6250
131 | .6375
132 | .6500
133 | .6625
134 | .6750
135 | .6875
136 | .7000
137 | .7125
138 | .7250
139 | .6375
140 | .7500
141 | .7625
142 | .7750
143 | .7875
144 | .8000
145 | .8125
146 | .8250
147 | .8375
148 | .8500
149 | .8625
150 | .8750
151 | .8875
152 | .9000
153 | .9125
154 | .9250
155 | .9375
156 | .9500
157 | .9625
158 | .9750
159 | .9875
160 | 937.0000
161 | .0125
162 | .0250
163 | .0375
164 | .0500
165 | .0625
166 | .0750
167 | .0875
168 | .1000
169 | .1125
170 | .1250
171 | .1375
172 | .1500
173 | .1625
174 | .1750
175 | .1875
176 | .2000
177 | .2125
178 | .2250
179 | .2375
180 | .2500
181 | .2625
182 | .2750
183 | .2875
184 | .3000
185 | .3125
186 | .3250
187 | .3375
188 | .3500
189 | .3625
190 | .3750
191 | .3875
192 | .4000
193 | .4125
194 | .4250
195 | .4375
196 | .4500
197 | .4625
198 | .4750
199 | .4875
200 | .5000
201 | .5125
202 | .5250
203 | .5375
204 | .5500
205 | .5625
206 | .5750
207 | .5875
208 | .6000
209 | .6125
210 | .6250
211 | .6375
212 | .6500
213 | .6625
214 | .6750
215 | .6875
216 | .7000
217 | .7125
218 | .7250
219 | .7375
220 | .7500
221 | .7625
222 | .7750
223 | .7875
224 | .8000
225 | .8125
226 | .8250
227 | .8375
228 | .8500
229 | .8625
230 | .8750
231 | .8875
232 | .9000
233 | .9125
234 | .9250
235 | .9475
236 | .9500
237 | .9625
238 | .9750
239 | .9875
240 | 938.0000
241 | .0125
242 | .0250
243 | .0375
244 | .0500
245 | .0625
246 | .0750
247 | .0875
248 | .1000
249 | .1125
250 | .1250
251 | .1375
252 | .1500
253 | .1625
254 | .1750
255 | .1875
256 | .2000
257 | .2125
258 | .2250
259 | .2375
260 | .2500
261 | .2625
262 | .2750
263 | .2875
264 | .3000
265 | .3125
266 | .3250
267 | .3375
268 | .3500
269 | .3625
270 | .3750
271 | .3875
272 | .4000
273 | .4125
274 | .4250
275 | .4375
276 | .4500
277 | .4625
278 | .4750
279 | .4875
280 | .5000
281 | .5125
282 | .5250
283 | .5375
284 | .5500
285 | .5625
286 | .5750
287 | .5875
288 | .6000
289 | .6125
290 | .6250
291 | .6375
292 | .6500
293 | .6625
294 | .6750
295 | .6875
296 | .7000
297 | .7125
298 | .7250
299 | .7375
300 | .7500
301 | .7625
302 | .7750
303 | .7875
304 | .8000
305 | .8125
306 | .8250
307 | .8375
308 | .8500
309 | .8625
310 | .8750
311 | .8875
312 | .9000
313 | .9125
314 | .9250
315 | .9375
316 | .9500
317 | .9625
318 | .9750
319 | .9875
320 | 939.0000
321 | .0125
322 | .0250
323 | .0375
324 | .0500
325 | .0625
326 | .0750
327 | .0875
328 | .1000
329 | .1125
330 | .1250
331 | .1375
332 | .1500
333 | .1625
334 | .1750
335 | .1875
336 | .2000
337 | .2125
338 | .2250
339 | .2375
340 | .2500
341 | .2625
342 | .2750
343 | .2875
344 | .3000
345 | .3125
346 | .3250
347 | .3375
348 | .3500
349 | .3625
350 | .3750
351 | .3875
352 | .4000
353 | .4125
354 | .4250
355 | .4375
356 | .4500
357 | .4625
358 | .4750
359 | .4875
360 | .5000
361 | .5125
362 | .5250
363 | .5375
364 | .5500
365 | .5625
366 | .5750
367 | .5875
368 | .6000
369 | .6125
370 | .6250
371 | .6375
372 | .6500
373 | .6625
374 | .6750
375 | .6875
376 | .7000
377 | .7125
378 | .7250
379 | .7375
380 | .7500
381 | .7625
382 | .7750
383 | .7875
384 | .8000
385 | .8125
386 | .8250
387 | .8375
388 | .8500
389 | .8625
390 | .8750
391 | .8875
392 | .9000
393 | .9125
394 | .9250
395 | .9375
396 | .9500
397 | .9625
398 | .9750
399 | .9875

Federal Communications Commission.
Marlene H. Dortch,
Secretary.

[FR Doc. 05-18698 Filed 9-27-05; 8:45 am]

BILLING CODE 6712-01-M